SECURITIES AND EXCHANGE COMMISSION

Sunshine Act Meeting; Additional Item

FEDERAL REGISTER CITATION OF PREVIOUS ANNOUNCEMENT: To be published.

PREVIOUSLY ANNOUNCED TIME AND DATE OF THE MEETING: Thursday, September 22, 2016.

CHANGES IN THE MEETING: The following matters will also be considered during the 2:00 p.m. Closed Meeting scheduled for Thursday, September 22, 2016:

Adjudicatory matter

CONTACT PERSON FOR MORE INFORMATION: For further information and to ascertain what, if any, matters have been added, deleted or postponed, please contact the Office of the Secretary at (202) 551-5400.

Dated: September 16, 2016.
Lynn M. Powalski,
Deputy Secretary.

[FR Doc. 2016-22906 Filed 9-19-16; 4:15 pm]

BILLING CODE 8011-01-P